DEPARTMENT OF COMMERCE

Foreign-Trade Zones Board

[B-55-2023]

Foreign-Trade Zone (FTZ) 127; Authorization of Production Activity; Trucast LLC; (Turbine Wheels); Newberry, South Carolina

On October 20, 2023, Trucast LLC submitted a notification of proposed production activity to the FTZ Board for its facility within Subzone 127G, in Newberry, South Carolina.

The notification was processed in accordance with the regulations of the FTZ Board (15 CFR part 400), including notice in the Federal Register inviting public comment (88 FR 73826-73827, October 27, 2023). On February 20, 2024, the applicant was notified of the FTZ Board's decision that no further review of the activity is warranted at this time. The production activity described in the notification was authorized, subject to the FTZ Act and the FTZ Board's regulations, including section 400.14.

Dated: February 20, 2024.
Elizabeth Whiteman,
Executive Secretary.

[FR Doc. 2024-03682 Filed 2-22-24; 8:45 am]

BILLING CODE 3510-DS-P